DEPARTMENT OF HEALTH AND HUMAN SERVICES

National Institutes of Health

Office of The Director, Office of Science Policy, Office of Biotechnology Activities; Amended Notice of Meeting

Notice is hereby given of a change in the meeting of the National Science Advisory Board for Biosecurity, November 04, 2016, 12:00 p.m. to November 04, 2016, 03:00 p.m., National Institutes of Health, 6705 Rockledge Drive, Suite 750, Bethesda, MD 20892 which was published in the Federal Register on October 11, 2016, 81FR 196.

The call-in number has changed to 1 (866) 939-3921. The meeting date, time and location remains the same. The meeting is open to the public.

Dated: October 12, 2016.
David Clary,
Program Analyst, Office of Federal Advisory Committee Policy.

[FR Doc. 2016-25072 Filed 10-17-16; 8:45 am]

BILLING CODE 4140-01-P